DEPARTMENT OF THE INTERIOR

National Park Service

[NPS-IMR-GRTE-14044; PX.PD202594.A.00.1]

Moose-Wilson Corridor Comprehensive Management Plan, Environmental Impact Statement, Grand Teton National Park, Wyoming

AGENCY: National Park Service, Interior.

ACTION: Notice of Intent.

SUMMARY: Pursuant to the National Environmental Policy Act of 1969, 42 U.S.C. 4332(2)(C), the National Park Service is preparing a Comprehensive Management Plan and Environmental Impact Statement (EIS) for the Moose-Wilson Corridor, Grand Teton National Park, Wyoming.

DATES: The National Park Service will accept comments from the public through February 4, 2014. In addition, a public scoping meeting will be conducted in the Jackson, Wyoming area. Please check local newspapers and the Web site below for additional information.

ADDRESSES: Information will be available for public review and comment online at http://parkplanning.nps.gov/MooseWilson, at the Grand Teton National Park Headquarters Building, 1 Teton Park Road, Moose, Wyoming, and at the Reference Desk of the Teton County Library, 125 Virginian Lane, Jackson, Wyoming.

FOR FURTHER INFORMATION CONTACT: Mary Gibson Scott, Superintendent, Grand Teton National Park, P.O. Drawer 170, Moose, Wyoming 83012-0170, telephone (307) 739-3410, or by email at GRTE_Superintendent@nps.gov, or Daniel Noon, Chief of Planning and Environmental Compliance, P.O. Drawer 170, Moose, Wyoming 83012-0170, telephone (307) 739-3465, or by email at Daniel_Noon@nps.gov.

SUPPLEMENTARY INFORMATION: In recent years, the Moose-Wilson corridor and surrounding areas in Grand Teton National Park have experienced changes in ecological conditions, development patterns, and use by visitors and local residents. As a result, the National Park Service is beginning a comprehensive planning and environmental impact statement process to determine how best to protect park resources and values while providing appropriate opportunities for visitor use, experience, and enjoyment of the corridor. The plan will: (1) Evaluate the importance and purpose of the Moose-Wilson corridor as a visitor destination within the park; (2) distinguish the corridor's fundamental and other important resources and values; (3) clearly define the necessary conditions for park visitors to understand, experience, and appreciate these resources and values; (4) identify the desired conditions linked to these resources and values; and (5) establish indicators and standards for maintaining these desired conditions.

If you wish to provide comments, you may do so by any one of several methods. You may mail comments to the Superintendent's Office, Attention: Moose-Wilson EIS, P.O. Drawer 170, Moose, Wyoming 83012-0170. You may comment via the Internet at http://parkplanning.nps.gov/MooseWilson. Finally, you may hand-deliver comments to the Grand Teton National Park Headquarters at Moose, Wyoming. Before including your address, phone number, email address, or other personal identifying information in your comment, you should be aware that your entire comment—including your personal identifying information—may be made publicly available at any time. While you can ask us in your comment to withhold your personal identifying information from public review, we cannot guarantee that we will be able to do so.

Dated: October 30, 2013.
Laura E. Joss,
Acting Regional Director, Intermountain Region, National Park Service.

[FR Doc. 2013-29190 Filed 12-5-13; 8:45 am]

BILLING CODE 4312-CB-P